DEPARTMENT OF THE INTERIOR

National Park Service

[NPS-WASO-NAGPRA-NPS0033898; PPWOCRADN0-PCU00RP14.R50000]

Notice of Inventory Completion: Beloit College, Logan Museum of Anthropology, Beloit, WI

AGENCY: National Park Service, Interior.

ACTION: Notice.

SUMMARY: Beloit College, Logan Museum of Anthropology has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Beloit College, Logan Museum of Anthropology. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Beloit College, Logan Museum of Anthropology at the address in this notice by June 13, 2022.

FOR FURTHER INFORMATION CONTACT: Nicolette B. Meister, Logan Museum of Anthropology, Beloit College, 700 College Street, Beloit, WI 53511, telephone (608) 363-2305, email meistern@beloit.edu.

SUPPLEMENTARY INFORMATION: Notice is here given in accordance with the Native American Graves Protection and Repatriation Act (NAGPRA), 25 U.S.C. 3003, of the completion of an inventory of human remains and associated funerary objects under the control of Beloit College, Logan Museum of Anthropology, Beloit, WI. The human remains and associated funerary objects were removed from Emmet County, MI.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Beloit College, Logan Museum of Anthropology professional staff in consultation with representatives of the Bad River Band of the Lake Superior Tribe of Chippewa Indians of the Bad River Reservation, Wisconsin; Bay Mills Indian Community, Michigan; Delaware Nation, Oklahoma; Forest County Potawatomi Community, Wisconsin; Grand Traverse Band of Ottawa and Chippewa Indians, Michigan; Ho-Chunk Nation of Wisconsin; Iowa Tribe of Kansas and Nebraska; Lac Vieux Desert Band of Lake Superior Chippewa Indians of Michigan; Little Traverse Bay Bands of Odawa Indians, Michigan; Match-e-be-nash-she-wish Band of Pottawatomi Indians of Michigan; Miami Tribe of Oklahoma; Ottawa Tribe of Oklahoma; Pokagon Band of Potawatomi Indians, Michigan and Indiana; Shakopee Mdewakanton Sioux Community of Minnesota; Shawnee Tribe; and the Stockbridge Munsee Community, Wisconsin.

An invitation to consult was extended to the Absentee-Shawnee Tribe of Indians of Oklahoma; Assiniboine and Sioux Tribes of the Fort Peck Indian Reservation, Montana; Cayuga Nation; Cherokee Nation; Cheyenne River Sioux Tribe of the Cheyenne River Reservation, South Dakota; Chippewa Cree Indians of the Rocky Boy's Reservation, Montana [previously listed as Chippewa-Cree Indians of the Rocky Boy's Reservation, Montana]; Citizen Potawatomi Nation, Oklahoma; Crow Creek Sioux Tribe of the Crow Creek Reservation, South Dakota; Delaware Tribe of Indians; Eastern Band of Cherokee Indians; Eastern Shawnee Tribe of Oklahoma; Flandreau Santee Sioux Tribe of South Dakota; Hannahville Indian Community, Michigan; Iowa Tribe of Oklahoma; Kaw Nation, Oklahoma; Keweenaw Bay Indian Community, Michigan; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Little River Band of Ottawa Indians, Michigan; Little Shell Tribe of Chippewa Indians of Montana; Lower Brule Sioux Tribe of the Lower Brule Reservation, South Dakota; Lower Sioux Indian Community in the State of Minnesota; Menominee Indian Tribe of Wisconsin; Minnesota Chippewa Tribe, Minnesota (Six component reservations: Bois Forte Band (Nett Lake); Fond du Lac Band; Grand Portage Band; Leech Lake Band; Mille Lacs Band; White Earth Band); Nottawaseppi Huron Band of the Potawatomi, Michigan [previously listed as Huron Potawatomi, Inc.]; Oglala Sioux Tribe [previously listed as Oglala Sioux Tribe of the Pine Ridge Reservation, South Dakota]; Omaha Tribe of Nebraska; Oneida Indian Nation [previously listed as Oneida Nation of New York]; Oneida Nation [previously listed as Oneida Tribe of Indians of Wisconsin]; Onondaga Nation; Otoe-Missouria Tribe of Indians, Oklahoma; Peoria Tribe of Indians of Oklahoma; Ponca Tribe of Indians of Oklahoma; Ponca Tribe of Nebraska; Prairie Band Potawatomi Nation [previously listed as Prairie Band of Potawatomi Nation, Kansas]; Prairie Island Indian Community in the State of Minnesota; Quapaw Nation [previously listed as The Quapaw Tribe of Indians]; Red Cliff Band of Lake Superior Chippewa Indians of Wisconsin; Red Lake Band of Chippewa Indians, Minnesota; Rosebud Sioux Tribe of the Rosebud Indian Reservation, South Dakota; Sac & Fox Nation of Missouri in Kansas and Nebraska; Sac & Fox Nation, Oklahoma; Sac & Fox Tribe of the Mississippi in Iowa; Saginaw Chippewa Indian Tribe of Michigan; Saint Regis Mohawk Tribe [previously listed as St. Regis Band of Mohawk Indians of New York]; Santee Sioux Nation, Nebraska; Sault Ste. Marie Tribe of Chippewa Indians, Michigan; Seneca Nation of Indians [previously listed as Seneca Nation of New York]; Seneca-Cayuga Nation [previously listed as Seneca-Cayuga Tribe of Oklahoma]; Sisseton-Wahpeton Oyate of the Lake Traverse Reservation, South Dakota; Sokaogon Chippewa Community, Wisconsin; Spirit Lake Tribe, North Dakota; St. Croix Chippewa Indians of Wisconsin; Standing Rock Sioux Tribe of North & South Dakota; The Muscogee (Creek) Nation; The Osage Nation [previously listed as Osage Tribe]; Tonawanda Band of Seneca [previously listed as Tonawanda Band of Seneca Indians of New York]; Turtle Mountain Band of Chippewa Indians of North Dakota; Tuscarora Nation; United Keetoowah Band of Cherokee Indians in Oklahoma; Upper Sioux Community, Minnesota; Winnebago Tribe of Nebraska; Wyandotte Nation; Yankton Sioux Tribe of South Dakota; and four non-federally recognized Indian groups—the Abenaki Nation of Missisquoi; Brothertown Indian Nation; Burt Lake Band of Ottawa and Chippewa Indians; and the Grand River Band of Ottawa Indians.

Hereafter, all the Indian Tribes and groups listed in this section are referred to as “The Consulted and Notified Tribes and Groups.”

History and Description of the Remains

On an unknown date, human remains representing, at minimum, one individual were removed from Emmet County, MI. The human remains (31209.31) and associated funerary objects were obtained by Albert Green Heath (1888-1953). Heath was an avid collector and dealer of Native American items who traveled throughout North America buying, trading, and selling Native American items. He had a summer home in Harbor Springs, MI, and developed relationships with the local Odawa/Ottawa. Heath's large collection came to be known as the Museum of Amerind Arts or the Museum of American Indian Art. In 1955, Beloit College, Logan Museum of Anthropology purchased the Albert Green Heath American Indian collection.

The human remains belong to an individual of undetermined age and sex. No known individual was identified. The 28 associated funerary objects are one lot of glass, stone, and shell beads (31209.32); one metal button (31209.24); one metal clock hand (31209.17); one metal ear wheel with RC touchmark (31209.7); one lot of metal head/hat band fragments (31209.5; 31209.6; 31209.27); one metal tube (31209.18); one lot of metal tinkler cones (31209.23); one lot of metal fragment wrapped in fiber cordage (31209.26); one lot of metal beads (31209.28); one lot of metal brooches and brooch fragments (31209.29); one lot of metal brooch with RC touchmark and brooch fragments attached to cloth (31209.10); one lot of metal strikers and striker fragments (31209.21; 31209.22); one lot of metal brooch fragments (31209.8; 31209.9); one lot of a bracelet crushed with leather and cloth fragments (31209.15); one lot of plain weave wool cloth fragments (31209.1); one lot of plain weave wool cloth fragments with metal brooches (31209.2); one lot of silk ribbon with whole and fragmentary brooches attached (31209.3); one lot of stone gunflint fragments (31209.30); one lot of wool garter fragment with wooden bead and glass beads (31209.4); one lot of corroded metal fragments (31209.25); one lot of plain weave cloth fragments (31209.33); one tube around stick (31209.19); one metal wire around wooden stick (31209.20); three metal bracelets—one with RC touchmark (31209.13; 31209.14; 31209.16); and two metal crosses—one with RC touchmark (31209.11; 31209.12).

Embedded in the human remains are small beads and red ochre. The “RC” touchmark belongs to Robert Cruickshank, a Montreal silversmith who produced sold silver ornaments and marketed them to the Northwest Company during the period 1779-1809.

Determinations Made Beloit College, Logan Museum of Anthropology

Officials of Beloit College, Logan Museum of Anthropology have determined that:

• Pursuant to 25 U.S.C. 3001(9), the human remains described in this notice represent the physical remains of one individual of Native American ancestry.

• Pursuant to 25 U.S.C. 3001(3)(A), the 28 objects described in this notice are reasonably believed to have been placed with or near individual human remains at the time of death or later as part of the death rite or ceremony.

• Pursuant to 25 U.S.C. 3001(2), there is a relationship of shared group identity that can be reasonably traced between the Native American human remains and associated funerary objects and the Grand Traverse Band of Ottawa and Chippewa Indians, Michigan; Little River Band of Ottawa Indians, Michigan; Little Traverse Bay Bands of Odawa Indians, Michigan; and the Ottawa Tribe of Oklahoma (hereafter referred to as “The Tribes”).

Additional Requestors and Disposition

Lineal descendants or representatives of any Indian Tribe or Native Hawaiian organization not identified in this notice that wish to request transfer of control of these human remains and associated funerary objects should submit a written request with information in support of the request to Nicolette B. Meister, Logan Museum of Anthropology, Beloit College, 700 College Street, Beloit, WI 53511, telephone (608) 363-2305, email meistern@beloit.edu, by June 13, 2022. After that date, if no additional requestors have come forward, transfer of control of the human remains and associated funerary objects to The Tribes may proceed.

Beloit College, Logan Museum of Anthropology is responsible for notifying The Consulted and Notified Tribes and Groups that this notice has been published.

Dated: May 4, 2022.
Melanie O'Brien,
Manager, National NAGPRA Program.

[FR Doc. 2022-10260 Filed 5-12-22; 8:45 am]

BILLING CODE 4312-52-P